DEPARTMENT OF HOMELAND SECURITY

Federal Emergency Management Agency

[Docket ID: FEMA-2009-0001]

Agency Information Collection Activities: Proposed Collection; Comment Request

AGENCY: Federal Emergency Management Agency, DHS.

ACTION: Notice; 60-day notice and request for comments; Reinstatement, with change, of a previously approved collection for which approval has expired, OMB No. 1660-0054; FEMA Form 080-2, AFG Application (General Questions and Narrative), FEMA Form 080-3, Activity Specific Questions for AFG Vehicle Applicants, FEMA Form 080-4, Activity Specific Questions for AFG Operations and Safety Applications, FEMA Form 080-5, Activity Specific Questions for Fire Prevention and Safety Applicants, FEMA Form 080-6, Fire Prevention and Safety Research and Development Application (Questions and Narrative), FEMA Form 080-7, Staffing for Adequate Fire and Emergency Response (General Questions for All Applicants), FEMA Form 080-8, Staffing for Adequate Fire and Emergency Response Hiring of Firefighters Application (Questions and Narrative), and FEMA Form 080-10, Staffing for Adequate Fire and Emergency Response Recruitment and Retention of Volunteer Firefighters Application (Questions and Narrative).

SUMMARY: The Federal Emergency Management Agency, as part of its continuing effort to reduce paperwork and respondent burden, invites the general public and other Federal agencies to take this opportunity to comment on a proposed information collection reinstated with change. In accordance with the Paperwork Reduction Act of 1995, this Notice seeks comments concerning the use of forms to collect data for the Assistance to Firefighters Grant Applications.

DATES: Comments must be submitted on or before May 12, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation & Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Tom Harrington, Fire Program Specialist, Assistance to Firefighters Program Office, Grant Programs Directorate, (202) 786-9791 for additional information. You may contact the Records Management Branch for copies of the proposed collection of information at facsimile number (202) 646-3347 or e-mail address: FEMA-Information-Collections@dhs.gov.

SUPPLEMENTARY INFORMATION: The authority for Assistance to Firefighters Grant Program (AFG) and Fire Prevention and Safety (FPS) is derived from the Federal Fire Protection and Control Act of 1974 (15 U.S.C. 2229 et seq.), as amended. The authority for Staffing for Adequate Fire and Emergency Response (SAFER) is derived from 15 U.S.C. 2201 et seq. This collection is necessary in order for DHS to effectively implement a competitive grant program.

Collection of Information

Title: Assistance to Firefighters Grant Applications.

Type of Information Collection: Reinstatement, with change, of a previously approved collection for which approval has expired.

OMB Number: 1660-0054.

Form Titles and Numbers: FEMA Form 080-2, AFG Application (General Questions and Narrative), FEMA Form 080-3, Activity Specific Questions for AFG Vehicle Applicants, FEMA Form 080-4, Activity Specific Questions for AFG Operations and Safety Applications, FEMA Form 080-5, Activity Specific Questions for Fire Prevention and Safety Applicants, FEMA Form 080-6, Fire Prevention and Safety Research and Development Application (Questions and Narrative), FEMA Form 080-7, Staffing for Adequate Fire and Emergency Response (General Questions for All Applicants), FEMA Form 080-8, Staffing for Adequate Fire and Emergency Response Hiring of Firefighters Application (Questions and Narrative), and FEMA Form 080-10, Staffing for Adequate Fire and Emergency Response Recruitment and Retention of Volunteer Firefighters Application (Questions and Narrative).

Abstract: Information sought under this submission will comprise the grant applications for AFG, FPS and SAFER. The information is necessary to assess the needs of the applicants as well as the benefits to be obtained from the use of funds.

Affected Public: “Not-for-profit” and “State, Local and Tribal Government.”

Estimated Total Annual Burden Hours: 227,225 hours.

Annual Hour Burden
Table A.12—Estimated Annualized Burden Hours and Costs
Type of Respondent | Form name/Form No. | Number of respondents | Number of responses per respondent | Avg. burden per response (in hours) | Total annual burden (in hours) | Avg. hourly wage rate | Total annual respondent cost
State, Local, or Tribal Government | FF 080-2 AFG Application (General Questions and Narrative) | 24,700 | 1 | 6.6 | 163,020 | 31.60 | 5,151,432
Not-for-profit institutions | FF 080-2 AFG Application (General Questions and Narrative) | 300 | 1 | 6.6 | 1,980 | 27.50 | 54,450.00
State, Local, or Tribal Government | FF 080-3 Activity Specific Questions for AFG Vehicle Applicants | 8,000 | 1 | 2.0 | 16,000 | 31.60 | 505,600.00
State, Local, or Tribal Government | FF 080-4 Activity Specific Questions for AFG Operations and Safety Applications | 13,000 | 1 | 2.0 | 26,000 | 31.60 | 821,600.00
| AFG Subtotal | 46,000 |  |  | 207,000 |  | 6,533,082.00
State, Local, or Tribal Government | FF 080-5 Activity Specific Questions for Fire Prevention and Safety Applicants | 2,150 | 1 | 2.0 | 4,300 | 31.60 | 135,880.00
Not-for-profit institutions | FF 080-5 Activity Specific Questions for Fire Prevention and Safety Applicants | 300 | 1 | 2.0 | 600 | 27.50 | 16,500.00
Not-for-profit institutions | FF 080-6 Fire Prevention and Safety Research and Development Application (Questions and Narrative) | 50 | 1 | 21.5 | 1,075 | 27.50 | 29,562.50
| FPS Subtotal | 2,500 |  |  | 5,975 |  | 181,942.50
State, Local, or Tribal Government | FF 080-7 Staffing for Adequate Fire and Emergency Response (General Questions All Applicants) | 1,470 | 1 | 2.0 | 2,940 | 31.60 | 92,904.00
Not-for-profit institutions | FF 080-7 Staffing for Adequate Fire and Emergency Response (General Questions All Applicants | 30 | 1 | 2 | 60 | 27.50 | 1,650.00
State, Local, or Tribal Government | FF 080-8 Staffing for Adequate Fire and Emergency Response Hiring of Firefighters Application (Questions and Narrative) | 1,000 | 1 | 7.5 | 7,500 | 31.60 | 237,000.00
State, Local, or Tribal Government | FF 080-10 Staffing for Adequate Fire and Emergency Response Recruitment and Retention of Volunteer Firefighters Application (Questions and Narrative) | 470 | 1 | 7.5 | 3,525 | 31.60 | 111,390.00
Not-for-profit institutions | FF 080-10 Staffing for Adequate Fire and Emergency Response Recruitment and Retention of Volunteer Firefighters Application (Questions and Narrative) | 30 | 1 | 7.5 | 225 | 27.50 | 6,187.50
| SAFER Subtotal | 3,000 |  |  | 14,250 |  | 449,131.50
| Grand Total | 51,500 |  |  | 227,225 |  | 7,164,156.00

Estimated Cost: The estimated annualized cost to respondents based on wage rate categories is $7,164,156.00. The estimated annual cost to the Federal Government is $3,875,594.40.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-5502 Filed 3-12-09; 8:45 am]

BILLING CODE 9111-64-P